NUCLEAR REGULATORY COMMISSION

[NRC-2022-0184]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by December 1, 2022. A request for a hearing or petitions for leave to intervene must be filed by January 3, 2023. This monthly notice includes all amendments issued, or proposed to be issued, from September 16, 2022, to October 13, 2022. The last monthly notice was published on October 4, 2022.

ADDRESSES: You may submit comments by any of the following methods, however, the NRC encourages electronic comment submission through the Federal rulemaking Website:

• Federal rulemaking website: Go to https://www.regulations.gov and search for Docket ID NRC-2022-0184. Address questions about Docket IDs in Regulations.gov to Stacy Schumann; telephone: 301-415-0624; email: Stacy.Schumann@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington, DC 20555-0001, telephone: 301-415-5411, email: Shirley.Rohrer@nrc.gov.

SUPPLEMENTARY INFORMATION:

I. Obtaining Information and Submitting Comments

A. Obtaining Information

Please refer to Docket ID NRC-2022-0184, facility name, unit number(s), docket number(s), application date, and subject when contacting the NRC about the availability of information for this action. You may obtain publicly available information related to this action by any of the following methods:

• Federal Rulemaking website: Go to https://www.regulations.gov and search for Docket ID NRC-2022-0184.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

B. Submitting Comments

The NRC encourages electronic comment submission through the Federal rulemaking website (https://www.regulations.gov). Please include Docket ID NRC-2022-0184, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr. If a petition is filed, the Commission or a presiding officer will rule on the petition and, if appropriate, a notice of a hearing will be issued.

As required by 10 CFR 2.309(d) the petition should specifically explain the reasons why intervention should be permitted with particular reference to the following general requirements for standing: (1) the name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9:00 a.m. and 6:00 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Constellation Energy Generation, LLC; Dresden Nuclear Power Station, Units 2 and 3; Grundy County, IL
Docket No(s) | 50-237, 50-249.
Application date | August 18, 2022.
ADAMS Accession No | ML22230C927.
Location in Application of NSHC | Pages 9-11 of Attachment 1.
Brief Description of Amendment(s) | The proposed amendment would revise Technical Specification 5.6.5, “Core Operating Limits Report [COLR],” paragraph b, to add two reports that support the General Electric Standard Application for Reactor Fuel analysis methodology to the list of approved methods to be used in determining the core operating limits in the COLR. The amendment would also delete eight Westinghouse topical reports that will no longer be used to support COLR evaluations after the fall outage in 2023. The licensee also plans to utilize Framatome RODEX2A methodology with an additional thermal conductivity degradation penalty in mixed core thermal-mechanical calculations for the ATRIUM 10XM fuel in the core during this transition. The licensee's amendment request also includes the expansion of the PRIME methodology to cover non-GNF fuel.
Proposed Determination | NSHC.
Name of Attorney for Licensee, Mailing Address | Jason Zorn, Associate General Counsel, Constellation Energy Generation, 101 Constitution Ave NW, Washington, DC 20001.
NRC Project Manager, Telephone Number | Surinder Arora, 301-415-1421.
Constellation Energy Generation, LLC; Dresden Nuclear Power Station, Units 2 and 3; Grundy County, IL
Docket No(s) | 50-237, 50-249.
Application date | August 25, 2022.
ADAMS Accession No | ML22237A233.
Location in Application of NSHC | Pages 4-5 of Attachment 1.
Brief Description of Amendment(s) | The proposed amendment would revise control rod scram time limits in table 3.1.4-1 of Technical Specification 3.1.4, “Control Rod Scram Times,” for Dresden Nuclear Power Station, Units 2 and 3, to regain margin for reactor vessel overpressure.
Proposed Determination | NSHC.
Name of Attorney for Licensee, Mailing Address | Jason Zorn, Associate General Counsel, Constellation Energy Generation, 101 Constitution Ave NW, Washington, DC 20001.
NRC Project Manager, Telephone Number | Surinder Arora, 301-415-1421.
DTE Electric Company; Fermi, Unit 2; Monroe County, MI
Docket No(s) | 50-341.
Application date | August 4, 2022.
ADAMS Accession No | ML22216A151.
Location in Application of NSHC | Pages 11 to 14 of Enclosure 1.
Brief Description of Amendment(s) | The proposed amendment would revise the Fermi, Unit 2, technical specifications (TSs) to adopt Technical Specifications Task Force (TSTF) Traveler TSTF-582, Revision 0, “Reactor Pressure Vessel Water Inventory Control (RPV WIC) Enhancements.” The TSs related to RPV WIC would be revised to incorporate operating experience and correct errors and omissions in TSTF-542, Revision 2, “Reactor Pressure Vessel Water Inventory Controls.”
Proposed Determination | NSHC.
Name of Attorney for Licensee, Mailing Address | Jon P. Christinidis, DTE Energy, Expert Attorney—Regulatory, 688 WCB, One Energy Plaza, Detroit, MI 48226.
NRC Project Manager, Telephone Number | Surinder Arora, 301-415-1421.
Entergy Operations, Inc.; Arkansas Nuclear One, Units 1 and 2; Pope County, AR
Docket No(s) | 50-313, 50-368.
Application date | August 30, 2022, as supplemented by letter dated September 29, 2022.
ADAMS Accession No | ML22242A295, ML22272A205.
Location in Application of NSHC | Pages 5-6 of the enclosure.
Brief Description of Amendment(s) | The proposed amendments would revise the required number of qualified onsite dose assessors for the on-shift Emergency Response Organization (ERO) in the Arkansas Nuclear One Emergency Plan utilizing the minimum staff ERO guidance specified in NUREG-0654/FEMA-REP-1, “Criteria for Preparation and Evaluation of Radiological Emergency Response Plans and Preparedness in Support of Nuclear Power Plants,” Revision 2.
Proposed Determination | NSHC.
Name of Attorney for Licensee, Mailing Address | Anna Vinson Jones, Assistant General Counsel, Entergy Services, Inc.,101 Constitution Avenue NW, Suite 200 East, Washington, DC 20001.
NRC Project Manager, Telephone Number | Thomas Wengert, 301-415-4037.
Nine Mile Point Nuclear Station, LLC and Constellation Energy Generation, LLC; Nine Mile Point Nuclear Station, Unit 1; Oswego County, NY
Docket No(s) | 50-220.
Application date | August 12, 2022.
ADAMS Accession No | ML22224A001.
Location in Application of NSHC | Pages 7-8 of Attachment 1.
Brief Description of Amendment(s) | The proposed license amendment would modify the Applicability and Actions of Nine Mile Point Unit 1 Technical Specification 3.3.1, “Oxygen Concentration,” to adopt the inerting/de-inerting requirements of Technical Specification Task Force (TSTF) Traveler TSTF-568, Revision 2, “Revise the Applicability of BWR TS 3.6.2.5 and TS 3.6.3.2,” which require inerting the primary containment to less than 4 percent by volume oxygen concentration within 72 hours while in the power operating condition.
Proposed Determination | NSHC.
Name of Attorney for Licensee, Mailing Address | Jason Zorn, Associate General Counsel, Constellation Energy Generation, 101 Constitution Ave NW, Washington, DC 20001.
NRC Project Manager, Telephone Number | Richard Guzman, 301-415-1030.
PSEG Nuclear LLC; Salem Nuclear Generating Station, Units 1 and 2; Salem County, NJ
Docket No(s) | 50-272, 50-311.
Application date | August 31, 2022.
ADAMS Accession No | ML22249A228.
Location in Application of NSHC | Pages 4-6 of Enclosure.
Brief Description of Amendment(s) | The amendment would relocate Technical Specification (TS) 3/4.4.12 limiting condition for operation, associated Action Statements and Surveillance Requirements for the Reactor Coolant System Head Vents from the TS to the Technical Requirements Manual for the Salem Nuclear Generating Station, Units 1 and 2.
Proposed Determination | NSHC.
Name of Attorney for Licensee, Mailing Address | Jodi Varon, PSEG Services Corporation, 80 Park Plaza, T-5, Newark, NJ 07102.
NRC Project Manager, Telephone Number | James Kim, 301-415-4125.
Southern Nuclear Operating Company, Inc.; Edwin I. Hatch Nuclear Plant, Units 1 and 2; Appling County, GA
Docket No(s) | 50-321, 50-366.
Application date | August 19, 2022.
ADAMS Accession No | ML22231B055.
Location in Application of NSHC | Pages E1-11 to E1-12 of Enclosure 1.
Brief Description of Amendment(s) | Southern Nuclear Operating Company requests a proposed license amendment to Unit 1 and Unit 2 technical specifications (TS) that would revise TS Table 1.1-1, “MODES,” to relax the required number of fully tensioned reactor pressure vessel head closure studs.
Proposed Determination | NSHC.
Name of Attorney for Licensee, Mailing Address | Millicent Ronnlund, Vice President and General Counsel, Southern Nuclear Operating Co., Inc., P.O. Box 1295, Birmingham, AL 35201-1295.
NRC Project Manager, Telephone Number | Dawnmathews Kalathiveettil, 301-415-5905.
Union Electric Company; Callaway Plant, Unit 1; Callaway County, MO
Docket No(s) | 50-483.
Application date | August 4, 2022, as supplemented by letter dated September 1, 2022.
ADAMS Accession No | ML22216A239 (package), ML22244A161.
Location in Application of NSHC | Pages 4-6 of Attachment 1.
Brief Description of Amendment(s) | The proposed amendment would modify technical specification (TS) requirements in TS 5.5.9, “Steam Generator (SG) Program,” and TS 5.6.10, “Steam Generator Tube Inspection Report.” These changes are consistent with NRC-approved Technical Specifications Task Force (TSTF) Traveler TSTF-577, “Revised Frequencies for Steam Generator Tube Inspections.” These TSs are revised based on operating history.
Proposed Determination | NSHC.
Name of Attorney for Licensee, Mailing Address | Jay E. Silberg, Pillsbury Winthrop Shaw Pittman LLP, 1200 17th St. NW, Washington, DC 20036.
NRC Project Manager, Telephone Number | Mahesh Chawla, 301-415-8371.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Constellation FitzPatrick, LLC and Constellation Energy Generation, LLC; James A. FitzPatrick Nuclear Power Plant; Oswego County, NY
Docket No(s) | 50-333.
Amendment Date | August 23, 2022.
ADAMS Accession No | ML22196A061.
Amendment No(s) | 352.
Brief Description of Amendment(s) | The license amendment added a new license condition to the Renewed Facility Operating License to allow the implementation of risk-informed categorization and treatment of structures, systems, and components for nuclear power reactors in accordance with 10 CFR 50.69.
Public Comments Received as to Proposed NSHC (Yes/No) | No.
Constellation FitzPatrick, LLC and Constellation Energy Generation, LLC; James A. FitzPatrick Nuclear Power Plant; Oswego County, NY
Docket No(s) | 50-333.
Amendment Date | September 1, 2022.
ADAMS Accession No | ML22223A141.
Amendment No(s) | 353.
Brief Description of Amendment(s) | The amendment revised the James A. FitzPatrick Nuclear Power Plant (FitzPatrick) technical specification (TS) requirements to permit the use of risk-informed completion times (RICTs) in accordance with Technical Specifications Task Force (TSTF) Traveler TSTF-505, Revision 2, “Provide Risk—Informed Extended Completion Times—RITSTF Initiative 4b,” (ADAMS Accession No. ML18183A493). A model safety evaluation was provided by the NRC to the TSTF on November 21, 2018 (ADAMS Accession No. ML18253A085). The amendment revised the TS requirements related to RICTs for Required Actions (Action allowed outage times for FitzPatrick) to provide the option to calculate a longer RICT. The RICT program is added to TS section 5.5, Programs and Manuals. Some of the modified Required Actions in TSTF-505 are not applicable to FitzPatrick. Also, there are some plant-specific Required Actions not included in TSTF-505 that are included in this proposed amendment.
Public Comments Received as to Proposed NSHC (Yes/No) | No.
Dominion Energy South Carolina, Inc.; Virgil C. Summer Nuclear Station, Unit 1, Fairfield County, SC
Docket No(s) | 50-395.
Amendment Date | September 22, 2022.
ADAMS Accession No | ML22244A172.
Amendment No(s) | 223.
Brief Description of Amendment(s) | The amendment modified the technical specifications (TSs) consistent with Technical Specifications Task Force (TSTF)-491 by removing the specific closure times for the main steam and main feedwater isolation valves from the associated TS surveillance requirements.
Public Comments Received as to Proposed NSHC (Yes/No) | No.
Duke Energy Florida, LLC; Crystal River Unit 3 Nuclear Generating Plant; Citrus County, FL
Docket No(s) | 50-302.
Amendment Date | September 14, 2022.
ADAMS Accession No | ML22221A156 (package).
Amendment No(s) | 261.
Brief Description of Amendment(s) | The amendment removed the technical specification requirements for non-radiological environmental effects that are no longer applicable during decommissioning because Crystal River Unit 3 has permanently ceased operation.
Public Comments Received as to Proposed NSHC (Yes/No) | No.
Energy Harbor Nuclear Corp. and Energy Harbor Nuclear Generation LLC; Beaver Valley Power Station, Units 1 and 2; Beaver County, PA
Docket No(s) | 50-334, 50-412.
Amendment Date | September 1, 2022.
ADAMS Accession No | ML22222A086.
Amendment No(s) | 317 (Unit 1), 208 (Unit 2).
Brief Description of Amendment(s) | The amendments revised Technical Specification 3.3.5, “Loss of Power (LOP) Diesel Generator (DG) Start and Bus Separation Instrumentation,” to add notes to required actions C.1 and D.1 and revise table 3.3.5-1, “Loss of Power Diesel Generator Start and Bus Separation Instrumentation.”
Public Comments Received as to Proposed NSHC (Yes/No) | No.
Energy Harbor Nuclear Corp. and Energy Harbor Nuclear Generation LLC; Beaver Valley Power Station, Units 1 and 2; Beaver County, PA; Energy Harbor Nuclear Corp. and Energy Harbor Nuclear Generation LLC; Davis-Besse Nuclear Power Station, Unit No. 1; Ottawa County, OH; Energy Harbor Nuclear Corp. and Energy Harbor Nuclear Generation LLC; Perry Nuclear Power Plant, Unit No. 1; Lake County, OH
Docket No(s) | 50-334, 50-412, 50-346, 50-440.
Amendment Date | September 16, 2022.
ADAMS Accession No | ML22210A010.
Amendment No(s) | 318 (Unit 1), 209 (Unit 2), 303 (Davis-Besse), 198 (Perry).
Brief Description of Amendment(s) | The amendments revised the reactor coolant leakage requirements in the technical specifications for each facility based on Technical Specifications Task Force (TSTF) Traveler TSTF 554, Revision 1, “Revise Reactor Coolant Leakage Requirements.”
Public Comments Received as to Proposed NSHC (Yes/No) | No.
Indiana Michigan Power Company; Donald C. Cook Nuclear Plant, Unit Nos. 1 and 2; Berrien County, MI
Docket No(s) | 50-315, 50-316.
Amendment Date | October 7, 2022.
ADAMS Accession No | ML22214A001.
Amendment No(s) | 361 (Unit 1), 343 (Unit 2).
Brief Description of Amendment(s) | The amendments revised the reactor coolant leakage requirements in the technical specifications based on Technical Specifications Task Force (TSTF) Traveler TSTF 554, Revision 1, “Revise Reactor Coolant Leakage Requirements.”
Public Comments Received as to Proposed NSHC (Yes/No) | No.
NextEra Energy Seabrook, LLC; Seabrook Station, Unit No. 1; Rockingham County, NH
Docket No(s) | 50-443.
Amendment Date | September 30, 2022.
ADAMS Accession No | ML22230C924.
Amendment No(s) | 170.
Brief Description of Amendment(s) | The amendment revised Technical Specification 3/4.8.3, “Onsite Power Distribution—Operating,” Limiting Condition for Operation 3.8.3.1 by increasing the Allowed Outage Time for the 120-volt (V) alternating current (AC) vital instrument panel inverters, deleting a footnote, and adding a new Action for two or more inoperable 120-V AC vital instrument panel inverters of the same electrical train and making related changes.
Public Comments Received as to Proposed NSHC (Yes/No) | No.
Susquehanna Nuclear, LLC and Allegheny Electric Cooperative, Inc.; Susquehanna Steam Electric Station, Units 1 and 2; Luzerne County, PA
Docket No(s) | 50-387, 50-388.
Amendment Date | August 30, 2022.
ADAMS Accession No | ML22200A062.
Amendment No(s) | 282 (Unit 1) and 265 (Unit 2).
Brief Description of Amendment(s) | The amendments revised technical specification (TS) requirements in Renewed Facility Operating License Nos. NPF-14 and NPF-22 to allow risk-informed completion times for actions to be taken when limiting conditions for operation are not met. The amendments also revised TSs to correct formatting; correct typographical, grammatical, and punctuation errors; and to delete expired requirements.
Public Comments Received as to Proposed NSHC (Yes/No) | No.
Tennessee Valley Authority; Watts Bar Nuclear Plant, Unit 1; Rhea County, TN
Docket No(s) | 50-390.
Amendment Date | September 20, 2022.
ADAMS Accession No | ML22187A019.
Amendment No(s) | 154.
Brief Description of Amendment(s) | The amendment revised the allowable value for Watts Bar Nuclear Plant, Unit 1, Technical Specification 3.3.2, “Engineered Safety Feature Actuation System (ESFAS) Instrumentation,” table 3.3.2-1, “Engineered Safety Feature Actuation System Instrumentation,” function 6.e(1), “Auxiliary Feedwater—Trip of all Main Feedwater Pumps—Turbine Driven Main Feedwater Pumps,” to be consistent with the value for Watts Bar Nuclear Plant, Unit 2.
Public Comments Received as to Proposed NSHC (Yes/No) | No.
Tennessee Valley Authority; Watts Bar Nuclear Plant, Units 1 and 2; Rhea County, TN
Docket No(s) | 50-390, 50-391.
Amendment Date | September 20, 2022.
ADAMS Accession No | ML22187A181.
Amendment No(s) | 153 (Unit 1) and 62 (Unit 2).
Brief Description of Amendment(s) | The amendments revised Watts Bar Nuclear Plant, Units 1 and 2, Technical Specification 3.7.8, “Essential Raw Cooling Water (ERCW) System,” to permanently extend the allowed Completion Time to restore one ERCW system train to operable status from 72 hours to 7 days. The amendments also revised the bounding temperature for the ultimate heat sink in Condition A from less than or equal to 71 degrees Fahrenheit to less than or equal to 78 degrees Fahrenheit.
Public Comments Received as to Proposed NSHC (Yes/No) | No.

Dated: October 20, 2022.
For the Nuclear Regulatory Commission.
Jamie M. Heisserer,
Deputy Director, Division of Operating Reactor Licensing, Office of Nuclear Reactor Regulation.

[FR Doc. 2022-23247 Filed 10-31-22; 8:45 am]

BILLING CODE 7590-01-P